Title 3—

The President

Proclamation 9663 of October 20, 2017

Minority Enterprise Development Week, 2017

By the President of the United States of America

A Proclamation

Since our earliest days, hardworking entrepreneurs have driven our Nation's prosperity. During Minority Enterprise Development Week, we recognize the contributions that minority-owned businesses make to our economy and our way of life, and we strive to ensure that small business owners have access to the resources they need to achieve the American Dream.

The United States is entering upon a new period of economic revival. Unemployment is at a 16-year low, businesses are expanding, and wages are rising. Ensuring that minority-owned businesses remain strong and vibrant is vital to the growth of our great Nation. Minority-owned firms employ eight million people and generate more than $1 trillion in annual economic output. They export their products at a greater rate than non-minority businesses and provide a great boost to our global competitiveness.

My Administration is committed to creating a business climate in which minority business enterprises can thrive and expand. The Unified Framework for Fixing Our Broken Tax Code, my Administration's basic plan for tax cuts and tax reform, calls for a steep reduction to the corporate tax rate from 35 to 20 percent. This reform will lift up our entrepreneurs, our businesses, and our families. The Framework also caps the top tax rate for millions of family-owned and small- and mid-sized businesses at 25 percent—the lowest it has been in more than 80 years. We also want Americans to be able to invest in capital to build their businesses, so for 5 years, we will allow them to deduct 100 percent of their capital investments. By eliminating needless regulations, promoting fair and reciprocal trade relationships, lowering taxes, and increasing the flow of capital, the United States will further cement its status as a global economic powerhouse.

During Minority Enterprise Development Week, we recommit to empowering every hardworking American to write our next great chapter. Let us work together to ensure that every American citizen can flourish and give back to our country and our communities.

NOW, THEREFORE, I, DONALD J. TRUMP, President of the United States of America, by virtue of the authority vested in me by the Constitution and the laws of the United States, do hereby proclaim October 22 through October 28, 2017, as National Minority Enterprise Development Week. I call upon all Americans to celebrate this week with programs, ceremonies, and activities to recognize the many contributions of American minority business enterprises.

IN WITNESS WHEREOF, I have hereunto set my hand this twentieth day of October, in the year of our Lord two thousand seventeen, and of the Independence of the United States of America the two hundred and forty-second.

[FR Doc. 2017-23525

Filed 10-25-17; 11:15 am]

Billing code 3295-F8-P